DEPARTMENT OF STATE

[Public Notice: 9361]

Determination by the Secretary of State Relating to Iran Sanctions

AGENCY: Department of State.

ACTION: Notice.

SUMMARY: The Secretary of State determined on November 10, 2015, pursuant to Section 1245(d)(4)(D) of the National Defense Authorization Act for Fiscal Year 2012 (NDAA), (Pub. L. 112-81), as amended, that as of November 10, 2015, the following countries, Malaysia and Singapore, have maintained their crude oil purchases from Iran at zero over the preceding 180-day period.

FOR FURTHER INFORMATION CONTACT: Katherine Skarsten, Senior Energy Officer, Department of State Bureau of Energy and Natural Resources, 202-647-9526.

Dated: November 23, 2015.
Amos Hochstein,
Special Envoy and Coordinator for International Energy Affairs, Bureau of Energy Resources, Department of State.

[FR Doc. 2015-30324 Filed 11-27-15; 8:45 am]

BILLING CODE 4710-AE-P